ENVIRONMENTAL PROTECTION AGENCY

[FRL-9104-9]

Cross-Media Electronic Reporting Rule State Authorized Program Revision Approval: State of North Carolina

AGENCY: Environmental Protection Agency (EPA).

ACTION: Notice.

SUMMARY: This notice announces EPA's approval, under regulations for Cross-Media Electronic Reporting, of the State of North Carolina's request to revise its EPA-authorized program to allow electronic reporting.

DATES: EPA's approval is effective January 21, 2010.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION:

On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and get EPA approval. Subpart D provides standards for such approvals based on consideration of the electronic document receiving systems that the state, tribe, or local government will use to implement the electronic reporting. Additionally, in § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On October 15, 2008, the State of North Carolina Department of Environment and Natural Resources (NCDENR) submitted an application for its Integrated Build Environment for Application Management (IBEAM) electronic document receiving system for revision of its EPA-authorized program under title 40 CFR. EPA reviewed NCDENR's request to revise its EPA-authorized program and, based on this review, EPA determined that the application met the standards for approval of authorized program revisions set out in 40 CFR part 3, subpart D. In accordance with 40 CFR 3.1000(d), this notice of EPA's decision to approve North Carolina's request for revision to its authorized program is being published in the Federal Register.

Specifically, EPA has approved the State of North Carolina's request to revise its Part 52—Approval and Promulgation of Implementation Plans authorized program for electronic reporting of air emissions information under 40 CFR part 51, for electronic submissions that do not include an electronic signature, but instead provide for a handwritten signature on a separate paper submission report.

NCDENR was notified of EPA's determination to approve its application with respect to the authorized program listed above.

Dated: January 7, 2010.
Lisa Schlosser,
Director, Office of Information Collection.

[FR Doc. 2010-1103 Filed 1-20-10; 8:45 am]

BILLING CODE 6560-50-P